NATIONAL SCIENCE FOUNDATION

National Science Board; Sunshine Act Meetings; Notice

The National Science Board's ad hoc Task Force on NEON Performance and Plans, pursuant to NSF regulations (45 CFR part 614), the National Science Foundation Act, as amended (42 U.S.C. 1862n-5), and the Government in the Sunshine Act (5 U.S.C. 552b), hereby gives notice in regard to the scheduling of a meeting for the transaction of National Science Board business, as follows:

TIME AND DATE: Friday, September 4, 2015 at 4-5 p.m. EDT.

PLACE: This meeting will be held by teleconference originating at the National Science Board Office, National Science Foundation, 4201 Wilson Blvd., Arlington, VA 22230.

STATUS: Closed.

MATTERS TO BE CONSIDERED: Task Force Chair's opening remarks; review and discussion of the Task Force charge, and discussion of the status of the NEON project.

CONTACT PERSON FOR MORE INFORMATION: Please refer to the National Science Board Web site (www.nsf.gov/nsb) for information or schedule updates, or contact: John Veysey (jveysey@nsf.gov), National Science Foundation, 4201 Wilson Blvd., Arlington, VA 22230.

Nadene Kennedy,
Polar Coordination Specialist.

[FR Doc. 2015-22727 Filed 9-4-15; 11:15 am]

BILLING CODE 7555-01-P